DEPARTMENT OF STATE

[Public Notice 8340]

Shipping Coordinating Committee; Notice of Committee Meeting

The Shipping Coordinating Committee (SHC) will conduct an open meeting at 8:30 a.m. on Wednesday, July 3, 2013, in Room 1200 of the United States Coast Guard Headquarters Building, 2100 Second Street SW., Washington, DC 20593-7126. The primary purpose of the meeting is to prepare for the sixty-third Session of the International Maritime Organization (IMO) Technical Co-operation Committee (TCC 63) to be held at the IMO Headquarters, United Kingdom from July 10 to July 12, 2013 and the one hundred and tenth Session of the IMO Council Session (C 110) to be held at the IMO Headquarters, United Kingdom, from July 15 to July 19, 2013.

The agenda items to be discussed include:

Sixty-Third Session of the Technical Co-Operation Committee

—Adoption of the agenda

—Work of other bodies and organizations

—Integrated Technical Co-operation Programme

—Financing of the Integrated Technical Co-operation Programme

—Linkage between the Integrated Technical Co-operation Programme and the Millennium Development Goals

—Partnerships for progress

—Voluntary IMO Member State Audit Scheme

—Integration of women in the maritime sector

—Global maritime training institutions

—Application of the Committee's Guidelines

—Work Programme

—Any other business

—Election of the Chairman and the Vice-Chairman for 2014

—Consideration of the report of the Committee on its sixty-second session

One Hundred and Tenth Session of Council

—Adoption of the agenda

—Report of the Secretary-General on credentials

—Strategy, planning and reform

—Resource Management

—Human resource matters, including amendments to the Staff Regulations and Staff Rules

—Accounts and audit: Final accounts for the finance period 2012 and transfers within the 2012 budget

—Report on investments

—Report on arrears of contributions and of advances to the Working Capital Fund and on the implementation of Article 61 of the IMO Convention

—Budget considerations for 2013

—Development of a long-term plan for the future financial sustainability of the Organization

—Technical Co-operation Fund

—Results-based budget: Outline of budgetary implications for 2014-2015

—Voluntary IMO Member State Audit Scheme

—Consideration of the report of the Maritime Safety Committee

—Consideration of the report of the Facilitation Committee

—Consideration of the report of the Legal Committee

—Consideration of the report of the Marine Environment Protection Committee

—Consideration of the report of the Technical Co-operation Committee

—Protection of vital shipping lanes

—Periodic review of administrative requirements in mandatory IMO instruments

—World Maritime University:

—Report of the Board of Governors

—Budget

—IMO International Maritime Law Institute:

—Report of the Board of Governors

—Budget

—Assembly matters:

—Provisional Agenda for the twenty-eighth regular session of the Assembly

—Preparations for the twenty-eighth regular session of the Assembly

—Draft report of the Council to the Assembly on the work of the Organization since the twenty-eighth regular session of the Assembly

—External relations:

—Relations with the United Nations and the specialized agencies

—Joint Inspection Unit

—Relations with intergovernmental organizations

—Relations with non-governmental organizations

—World Maritime Day

—International Maritime Prize

—IMO Award for Exceptional Bravery at Sea

—Report on Day of the Seafarer 2013

—Report on the status of the Convention and membership of the Organization

—Report on the status of conventions and other multilateral instruments in respect of which the Organization performs functions

—Place, date and duration of the next session of the Council

—Supplementary agenda items, if any

Members of the public may attend this meeting up to the seating capacity of the room. To facilitate the building security process, and to request reasonable accommodation, those who plan to attend should contact the meeting coordinator; LCDR Matthew Frazee by email at matthew.p.frazee@uscg.mil, by phone at (202) 372-1376 or in writing at Commandant (CG-52), U.S. Coast Guard Headquarters, 2100 2nd Street SW., STOP 7126, Room 1200, Washington, DC 20593-7126 not later than June 28, 2013. Requests for reasonable accommodation made after June 28th will be considered, but may not be possible to fulfill.

Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: May 23, 2013.
Brian Robinson,
Executive Secretary, Shipping Coordinating Committee, Department of State.

[FR Doc. 2013-12940 Filed 5-30-13; 8:45 am]

BILLING CODE 4710-09-P